DEPARTMENT OF EDUCATION

Special Demonstration Programs—Model Demonstrations for Assistive Technology Reutilization

AGENCY: Office of Special Education and Rehabilitative Services, Department of Education.

ACTION: Notice of final priorities.

SUMMARY: The Assistant Secretary for the Office of Special Education and Rehabilitative Services (OSERS) announces final priorities under the Special Demonstration Programs administered by the Rehabilitation Services Administration (RSA). The Assistant Secretary may use one or more of these priorities for competitions in fiscal year (FY) 2006 and later years. This notice announces two priorities—a priority for model demonstrations for assistive technology (AT) device reutilization and a priority for a National Assistive Technology Device Reutilization Coordination and Technical Assistance Center (Center). These priorities are intended to increase access to AT devices for individuals with disabilities. The term “AT devices” includes a wide range of AT, such as computers, durable medical equipment, augmentative and alternative communication, and other devices.

EFFECTIVE DATE: These priorities are effective September 18, 2006.

FOR FURTHER INFORMATION CONTACT: Jeremy Buzzell, U.S. Department of Education, 400 Maryland Avenue, SW., room 5025, Potomac Center Plaza, Washington, DC 20202-2800. Telephone: (202) 245-7319 or via Internet: Jeremy.Buzzell@ed.gov.

If you use a telecommunications device for the deaf (TDD), you may call the Federal Relay Service (FRS) at 1-800-877-8339.

Individuals with disabilities may obtain this document in an alternative format (e.g., Braille, large print, audiotape, or computer diskette) on request to the contact person listed under FOR FURTHER INFORMATION CONTACT.

SUPPLEMENTARY INFORMATION: The purpose of the Special Demonstration Programs is to provide financial assistance to projects that expand and improve the provision of rehabilitation and other services for individuals with disabilities. The projects to be supported under these priorities are intended to improve the provision of AT to individuals with disabilities.

We published a notice of proposed priorities (NPP) for this program in the Federal Register on April 26, 2006 (71 FR 24800). The NPP included a background statement that described our rationale for each priority proposed in that notice. This notice of final priorities (NFP) contains several significant changes from the NPP. These changes are explained in the following Analysis of Comments and Changes.

Analysis of Comments and Changes

In response to our invitation in the NPP, 17 parties submitted comments on the proposed priorities. An analysis of the comments and of any changes in the priorities since publication of the NPP follows. We discuss substantive issues by topic under the number of the priority to which they pertain. Due to the nature and number of changes made in the priorities, OSERS significantly reorganized the priorities, including renumbering some sections and deleting others.

Generally, we do not address technical and other minor changes and suggested changes the law does not authorize us to make under the applicable statutory authority.

Priority 1—Model Demonstrations for AT Device Reutilization

Priority 1—General

Comments: Four commenters recommended that the amount of funds to cover indirect costs be limited to no more than 10 percent of the grant award in order to ensure that most of the grant funds are used for direct services.

Discussion: It is not necessary to limit indirect costs in the final priority because 34 CFR 373.22 limits indirect costs to 10 percent of the total direct cost base or the grantee's actual indirect costs, whichever is less.

Change: None.

Comment: One commenter requested greater specificity about requiring grantees to provide plans for sustaining their projects beyond the project period of this grant.

Discussion: Programs can be sustained in many ways, so OSERS agrees that a clarification of what is meant by this requirement will be helpful to potential applicants.

Change: OSERS replaced section (c) of Priority 1 with a new section (a)(ii) of Priority 1 to clarify that the project must be designed to sustain itself through its own activities beyond the project period of the grant.

Priority 1—Eligibility Requirements

Comments: Three commenters suggested that interstate collaborations be allowed to apply for grants under Priority 1.

Discussion: Eligible parties already are allowed to apply as a group pursuant to 34 CFR 75.127 through 75.129 and 34 CFR 373.2(a)(6).

Change: OSERS replaced section (b) of Priority 1 with new sections (a)(iii) and (a)(iv) of Priority 1 to clarify that projects may serve a State or group of States.

Comments: Three commenters suggested that grants be limited to one per State. One of these commenters would allow an exception if one project involved a single State and another involved that same State in a multi-State or regional project.

Discussion: Limiting grants to one per State may undermine the competitive grant process and reduce the quality of services to individuals with disabilities, because high quality applications from one State would be passed over for low quality applications from another State. Additionally, as is stated elsewhere in this notice, statewide delivery of services will not be a requirement of applicants. Limiting the grants to one per State may prevent a State from achieving more comprehensive services through multiple grants.

Change: None.

Priority 1—Scope of Services

Comments: Two commenters recommended that rather than requiring projects under Priority 1 to include all types of AT, serve people with all types of disabilities, and be statewide, that grantees be allowed to determine what AT they will reutilize, what types of disabilities will be served, and whether they will serve the entire State.

Discussion: OSERS understands that different capacities and expertise are required to reutilize particular types of devices. Additionally, it is possible that a project can best meet the needs of individuals with disabilities in particular areas of a State rather than on a statewide basis. Therefore, OSERS agrees that projects should have discretion to determine what types of devices they will reutilize and whether they have the capacity to serve statewide. However, individuals with diverse disabilities can benefit from similar devices; therefore, it is not appropriate to give States the discretion to limit the type of disability served.

Change: OSERS has removed language from section (a) of Priority 1 requiring that projects be statewide and recycle all types of AT.

Priority 1—Requirements for Project Operations

Comments: Three commenters recommended that grantees under Priority 1 be required to use professional technicians to refurbish the recycled devices.

Discussion: Existing device reutilization projects use various models to successfully reutilize AT devices and rely on a wide range of expertise. Given the diversity of programs nationally and the lack of agreed-upon best practices for device reutilization, imposing such a requirement would unfairly restrict applications from viable programs. However, OSERS agrees that it is important to encourage the establishment of best practices in the field of AT device reutilization.

Changes: OSERS deleted sections 1(d) and 2(a) of Priority 2 and added sections (a)(ii), (a)(iv), and (b)(iv) to Priority 2 to require the Center to investigate and nationally disseminate best practices and to explore the need for and feasibility of developing standards of practice.

Priority 1—Collaboration

Comments: Four commenters suggested that every grantee under Priority 1 be required to collaborate with the Statewide Assistive Technology Program (Statewide AT Program) funded under the Assistive Technology Act of 1998, as amended (AT Act), in their State, and two commenters recommended requiring an assurance from the Statewide AT Program in their State that the grantee's application supplements and coordinates with the Statewide AT Program's reutilization activities.

Discussion: Because Statewide AT Programs conduct reutilization activities, OSERS agrees that projects funded under Priority 1 should collaborate with Statewide AT Programs to ensure better services to individuals with disabilities in their States. However, requiring an applicant under Priority 1 to provide an assurance in its application from the Statewide AT Program in its State that the application supplements and coordinates these reutilization activities would unfairly limit applications and undermine the competitive process. Requiring such an assurance from the Statewide AT Program would allow the Statewide AT Program to determine what entities can apply under Priority 1 by agreeing to or refusing to provide an assurance to an entity.

Change: OSERS replaced section (b) of Priority 1, with a new section (a)(iii), which requires that grantees coordinate and collaborate with reutilization activities funded under the AT Act. However, an assurance from the grantee under the AT State Grant program will not be required as part of the application. OSERS also included in section (a)(iii) language from section (h) in the NPP requiring that funds be used to supplement and not supplant the efforts of the Statewide AT Program.

Comments: One commenter recommended including a list of partners with whom grantees funded under Priority 1 should be required to collaborate, including AT Act programs, alternative financing programs, vocational rehabilitation agencies, education agencies, and vendors. An additional two commenters suggested that grantees be required to partner with manufacturers and suppliers of AT to conduct reutilization.

Discussion: OSERS agrees that collaboration is important for projects funded under Priority 1.

Change: OSERS replaced section (b) with a new section (a)(iv), which requires that grantees collaborate with relevant entities as appropriate, including the National Assistive Technology Device Reutilization Coordination and Technical Assistance Center funded under Priority 2, as well as State agencies that fund AT, alternative financing programs, vendors and manufacturers of AT, and other relevant entities and organizations.

Priority 1—Compliance with Regulations and Standards of Practice

Comments: Two commenters want to require grantees under Priority 1 to collaborate with manufacturers to establish standards for useful life by device type, minimum training and expertise for refurbishing and repair staff, and guidelines for training and education of clients and caregivers.

Discussion: OSERS agrees that it may be important to establish standards or best practices in device reutilization. However, if each project funded under Priority 1 works separately with manufacturers to establish standards, the standards will be inconsistent.

Change: OSERS added section (a)(iv) to Priority 2 to require the Center to explore the need for and feasibility of developing standards of practice.

Comments: Two commenters recommended that all grantees under Priority 1 be required to submit an assurance of compliance with all appropriate State and Federal requirements pertinent to the reuse, recycling, and sanitization of devices.

Discussion: While OSERS understands that projects may need assistance in understanding the appropriate State and Federal requirements, Priority 1 projects are subject to State and Federal requirements regardless of an additional assurance. Therefore, such an assurance is unnecessary. We believe it would be appropriate for the Center funded under Priority 2 to provide technical assistance to Priority 1 grantees on State and Federal requirements.

Change: OSERS has added sections (a)(iii) and (b)(iii) to Priority 2 requiring the Center funded under Priority 2 to disseminate information and to provide technical assistance related to relevant State and Federal requirements to projects funded under Priority 1.

Comments: Three commenters requested a requirement that all model demonstrations develop and maintain standards of practice and develop protocols for referrals to AT practitioners to provide evaluations.

Discussion: OSERS agrees that it may be important to develop standards of practice or procedures for referral. However, if each project funded under Priority 1 works separately to develop standards of practice or procedures for referrals, the standards and procedures will be inconsistent.

Change: OSERS added section (a)(iv) to Priority 2 to require the Center to explore the need for and feasibility of developing standards of practice for AT device reutilization nationally.

Priority 1—Data Collection and Reporting

Comments: Three commenters recommended that projects under Priority 1 be required to report to manufacturers when a reuse project has possession of a device and when a device has been involved in an injury or death.

Discussion: We agree that these types of reports may be beneficial. However, if each project funded under Priority 1 works separately with manufacturers to provide that information, reporting will not be standardized or reliable.

Change: OSERS added section (a)(v) to Priority 2 to require the Center to explore the necessity, feasibility, and development of reporting to AT manufacturers by Priority 1 grantees.

Comments: One commenter recommended that one data collection system be formed by RSA, the Center funded under Priority 2, and the grantees, rather than having each grantee form its own system. An additional commenter recommended that grantees under Priority 1 use common measurement standards that are developed by the Center under Priority 2.

Discussion: OSERS agrees that a unified system of measuring and collecting data should be developed, which was intended by the NPP.

Change: OSERS replaced section (d) in Priority 1 and section 1(g) in Priority 2 with a new section (b)(i) of Priority 1 and section (b)(v) of Priority 2 to clarify that RSA, the Center in Priority 2, and projects funded under Priority 1 will work together to develop a unified system of measuring and collecting data and to identify appropriate outcome measures and methods of collecting data.

Comments: Four commenters recommended that the data collection requirements for Priority 1 be the same as the data collection requirements for device reutilization programs under the AT Act. An additional three commenters wanted to require that Priority 1 projects identify and collect data to measure clinical outcomes of individuals served by device reutilization programs.

Discussion: OSERS believes that developing appropriate data collection requirements and identifying outcomes is important. OSERS agrees that data reported by projects funded under Priority 1, at a minimum, should meet the data collection requirements for device reutilization under the AT Act. However, restricting the data collection requirements solely to the requirements under the AT Act would limit the data collection before the full data needs of projects funded under Priority 1 have been explored. Additionally, while OSERS agrees that measuring outcomes, including clinical outcomes, of those served by reutilization programs may be important, outcome measurement will be inconsistent if grantees under Priority 1 separately develop methods of outcome measurement.

Change: OSERS eliminated specific data collection requirements by deleting sections (e) through (g) of Priority 1. Instead, OSERS added sections (b)(i) and (b)(ii) to Priority 1 and sections (b)(v) and (b)(vi) to Priority 2 to require that the Center funded under Priority 2 and projects funded under Priority 1 work together with RSA to develop a data collection system, including identifying appropriate outcomes and outcome measures.

Priority 2— National AT Device Reutilization Coordination and Technical Assistance Center

Priority 2—Eligibility and Collaboration with Stakeholders

Comments: Three commenters wanted to require entities that apply under Priority 2 to have direct experience reutilizing devices in order to be eligible.

Discussion: While OSERS agrees that the expertise from those with direct experience reutilizing devices is important, eligibility requirements are established in section 303(b)(2)(A) of the Rehabilitation Act of 1973, as amended, and 34 CFR 373.2.

Change: None.

Comments: Four commenters recommended that under Priority 2 the grantee be required to create an advisory and oversight committee comprised of stakeholders. An additional three commenters wanted to limit eligibility under Priority 2 to applicants who constitute a collaborative of entities that are stakeholders in reutilization of AT.

Discussion: OSERS agrees that the Center funded under Priority 2 should work with a variety of stakeholders. However, while the eligibility requirements established in 34 CFR 373.2 allow applications by consortia, OSERS does not believe it is appropriate to restrict applications to consortia of stakeholders. In addition, while OSERS believes that the Center should be required to collaborate with stakeholders, effective collaboration with stakeholders can be achieved in many ways. Therefore, OSERS does not believe that it is necessary to require the Center to have an advisory committee. The grantee should have discretion as to the method by which it collaborates and with whom it collaborates.

Changes: OSERS replaced sections 2(c) and 2(e) of Priority 2 with new sections (a) and (c)(v) of Priority 2 to clarify that collaboration with stakeholders is a requirement of the Center funded under Priority 2.

Priority 2—Scope of Work

Comments: Two commenters recommended that the Center be used to identify regulatory issues and ensure compliance.

Discussion: OSERS agrees that the identification and dissemination of State and Federal requirements governing device reutilization is important and that this should be a key responsibility of the Center funded under Priority 2. However, while a Center can disseminate and provide technical assistance about requirements, it cannot enforce these requirements.

Change: OSERS replaced section 1(a) of Priority 2 with a new section (b), which includes (b)(iii) requiring the Center to disseminate information and provide technical assistance on compliance with State and Federal requirements regarding AT device utilization.

Comment: One commenter suggested funding Priority 2 prior to funding Priority 1 to identify regulatory issues and standards of practice prior to the operation of model demonstrations under Priority 1.

Discussion: There are many device reutilization projects already in existence, and there are many instances in which developing or expanding reutilization represents an immediate need for States. Further, OSERS believes that the projects funded under Priority 1 must be able to provide input into the development of any standards of practice. Therefore, it would not be appropriate to delay the funding of projects under Priority 1.

Change: None.

Comment: None.

Discussion: OSERS believes that reutilization of AT devices can be an important part of a national strategy to respond to the needs of individuals with disabilities involved in natural disasters. The Center funded under Priority 2 and the projects funded under Priority 1 present an opportunity to develop a coordinated effort to collect and distribute reutilized AT devices following a natural disaster.

Change: OSERS added section (c)(vi) to Priority 2 requiring the Center to develop a plan for device reutilization to meet the AT needs of individuals with disabilities who are affected by natural disasters.

Note: This notice does not solicit applications. In any year in which we choose to use one or more of these priorities, we invite applications through a notice in the Federal Register. When inviting applications we designate each priority as absolute, competitive preference, or invitational. The effect of each type of priority follows:

Absolute priority: Under an absolute priority we consider only applications that meet the priority (34 CFR 75.105(c)(3)).

Competitive preference priority: Under a competitive preference priority we give competitive preference to an application by either (1) awarding additional points, depending on how well or the extent to which the application meets the competitive priority (34 CFR 75.105(c)(2)(i)); or (2) selecting an application that meets the competitive priority over an application of comparable merit that does not meet the priority (34 CFR 75.105(c)(2)(ii)).

Invitational priority: Under an invitational priority we are particularly interested in applications that meet the invitational priority. However, we do not give an application that meets the invitational priority a competitive or absolute preference over other applications (34 CFR 75.105(c)(1)).

Priorities

Priority 1—Model Demonstrations for AT Device Reutilization

This priority supports projects that propose model demonstrations to establish or expand AT device reutilization to serve consumers in a State or group of States. Projects funded under this priority must—

(a) Establish a new AT device reutilization project, expand an existing AT device reutilization project, or coordinate a partnership of AT device reutilization projects in a State or group of States, that—

(i) Meets the AT needs of individuals with disabilities without regard to type of disability;

(ii) Is designed to sustain itself through its own activities beyond the project period of the grant;

(iii) Coordinates and collaborates directly with, and supplements but does not supplant, reutilization activities in that State or group of States funded under section 4 of the Assistive Technology Act of 1998, as amended; and

(iv) Coordinates and collaborates with providers of AT devices and AT services in the State or group of States and other relevant entities as appropriate, including the National AT Device Reutilization Coordination and Technical Assistance Center (Center) funded by the Department, as well as State agencies that fund AT, alternative financing programs, vendors and manufacturers of AT, and other relevant entities and organizations; and

(b) Participate in data collection by—

(i) Working with RSA and the Center to develop a unified data collection system, including identifying appropriate outcomes and outcome measures; and

(ii) Collecting and reporting data on activities and outcomes as determined by RSA.

Priority 2—National AT Device Reutilization Coordination and Technical Assistance Center

This priority supports a National AT Device Reutilization Coordination and Technical Assistance Center that will address issues of national significance in AT device reutilization; provide technical assistance to AT device reutilization projects funded by the Department under the Model Demonstrations for AT Device Reutilization priority (Model Demonstrations Projects) and from other sources; and coordinate and network AT device reutilization projects funded both under the Model Demonstrations Projects and from other sources.

(a) To address issues of national significance in AT device reutilization, the Center funded under this priority must collaborate with public and private AT stakeholders (including providers of AT devices, AT services, and funding for AT at the State and Federal level; vendors and manufacturers of AT; and other relevant entities and organizations) to—

(i) Identify national issues that affect AT device reutilization;

(ii) Investigate the national scope, trends, best practices, and impact of AT device reutilization;

(iii) Identify Federal and State policies that affect AT device reutilization;

(iv) Explore the need for and feasibility of developing standards of practice for AT device reutilization nationally;

(v) Explore the necessity, feasibility, and development of reporting information to AT manufacturers; and

(vi) Address issues on the national level, such as building relationships among AT device vendors and manufacturers and projects funded under Model Demonstration Projects and working on liability and reimbursement issues.

(b) To provide technical assistance to reutilization projects funded both under Model Demonstrations Projects and from other sources, the Center funded under this priority must—

(i) Assist AT device reutilization projects with establishment, expansion, improvement, and sustainability by disseminating information about best practices and successful models for AT device reutilization;

(ii) Conduct follow-up activities that are designed to enable AT device reutilization programs to continue beyond the three years of Federal funding;

(iii) Disseminate information on Federal and State policies that affect AT device reutilization and how projects should ensure compliance with these policies;

(iv) Disseminate information on standards of practice in AT device reutilization, if applicable;

(v) Work with projects funded under Model Demonstrations Projects, stakeholders, and RSA to identify appropriate outcome measures and methods of collecting data; and

(vi) Work with RSA and grantees under Model Demonstrations Projects to develop a unified data collection system for use by these grantees.

(c) To coordinate and network reutilization projects funded under Model Demonstrations Projects and from other sources, the Center must—

(i) Establish a national network of statewide AT device reutilization systems funded under Model Demonstration Projects and supported by other entities;

(ii) Facilitate information and resource exchange among grantees;

(iii) Encourage interstate activities among grantees;

(iv) Nationally market and promote AT device reutilization to individuals with disabilities and other stakeholders;

(v) Collaborate with relevant national organizations and national networks; and

(vi) Develop a plan for how AT device reutilization projects can meet the AT needs of individuals with disabilities who are affected by natural disasters.

Executive Order 12866

This notice of final priorities has been reviewed in accordance with Executive Order 12866. Under the terms of the order, we have assessed the potential costs and benefits of this regulatory action.

The potential costs associated with the notice of final priorities are those resulting from statutory requirements and those we have determined as necessary for administering this program effectively and efficiently.

In assessing the potential costs and benefits—both quantitative and qualitative—of this notice of final priorities, we have determined that the benefits of the final priorities justify the costs.

We have also determined that this regulatory action does not unduly interfere with State, local, and tribal governments in the exercise of their governmental functions.

Summary of Potential Costs and Benefits

The potential costs associated with these final priorities are minimal, while the benefits are significant. Grantees will increase the number of individuals with disabilities who obtain the AT they need. Grantees may anticipate costs associated with completing the application process in terms of staff time, copying, and mailing or delivery. The use of electronic application technology reduces mailing and copying costs significantly.

Intergovernmental Review

This program is subject to Executive Order 12372 and the regulations in 34 CFR part 79. One of the objectives of the Executive order is to foster an intergovernmental partnership and a strengthened federalism. The Executive order relies on processes developed by State and local governments for coordination and review of proposed Federal financial assistance.

This document provides early notification of our specific plans and actions for this program.

Applicable Program Regulations: 34 CFR part 373.

Electronic Access to This Document

You may view this document, as well as all other Department of Education documents published in the Federal Register, in text or Adobe Portable Document Format (PDF) on the Internet at the following site: www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Catalog of Federal Domestic Assistance Number 84.235V Special Demonstration Programs)

Program Authority: 29 U.S.C. 773(b).

Dated: August 16, 2006.
John H. Hager,
Assistant Secretary for Special Education and Rehabilitative Services.

[FR Doc. 06-7030 Filed 8-17-06; 8:45 am]

BILLING CODE 4000-01-P